DEPARTMENT OF AGRICULTURE

Rural Business-Cooperative Service

Notice of Request for Extension of a Currently Approved Information Collection

AGENCY: Rural Business-Cooperative Service, USDA.

ACTION: Proposed collection; comments requested.

SUMMARY: In accordance with the Paperwork Reduction Act of 1995, this notice announces the Rural Business-Cooperative Service's intention to request an extension for a currently approved information collection in support of the Feasibility Study program administered under the Rural Energy for America Program (REAP).

DATES: Comments on this notice must be received by March 5, 2012 to be assured of consideration.

FOR FURTHER INFORMATION CONTACT: Amy Cavanaugh, Management and Program Analyst, Rural Development, U.S. Department of Agriculture, STOP 3252, 1400 Independence Ave. SW., Washington, DC 20250-3201, Telephone (202) 260-1506.

SUPPLEMENTARY INFORMATION: Title: Feasibility Study Program.

OMB Number: 0570-0061.

Expiration Date of Approval: September 30, 2012.

Type of Request: Extension of a currently approved information collection.

Abstract: The Agency anticipates publishing a proposed rule for REAP in calendar year 2012. This proposed rule will include changes to the Feasibility Study program as well as combine all associated burden for REAP into one paperwork burden package. Since the current Feasibility Study paperwork burden package expires September 30, 2012, the period of time between expiration and the publication of a REAP final rule would have to allow for continued operation of the Feasibility Study program. Thus, approval for extension is needed.

This grant program, authorized under the 2008 Farm Bill, makes grants to eligible entities to conduct feasibility studies for renewable energy systems that are eligible for financial assistance under the REAP. Entities eligible to receive grants under this program are agricultural producers and rural small businesses. Grant funds under this program may be used only to conduct feasibility studies for renewable energy systems that would qualify for funding under the REAP. Agricultural producers and rural small businesses would be required to pay at least 75 percent of the cost of the feasibility study.

Estimate of Burden: Public reporting burden for this collection of information is estimated to average 1.4 hours per response.

Respondents: Agricultural producers and rural small businesses.

Estimated Number of Respondents: 354.

Estimated Number of Responses per Respondent: 10.

Estimated Number of Responses: 3,395.

Estimated Total Annual Burden on Respondents: 4,811.

Copies of this information collection can be obtained from Jeanne Jacobs, Regulations and Paperwork Management Branch, Support Services Division at (202) 692-0040.

Comments: Comments are invited on: (a) Whether the proposed collection of information is necessary for the proper performance of the functions of USDA, including whether the information will have practical utility; (b) the accuracy of USDA's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Jeanne Jacobs, Regulations and Paperwork Management Branch, Support Services Division, U.S. Department of Agriculture, Rural Development, STOP 0742, 1400 Independence Ave. SW., Washington, DC 20250-0742. All responses to this notice will be summarized and included in the request for OMB approval. All comments will also become a matter of public record.

Dated: December 22, 2011.
Chadwick O. Parker,
Acting Administrator, Rural Business-Cooperative Service.

[FR Doc. 2011-33685 Filed 1-3-12; 8:45 am]

BILLING CODE 3410-XY-P